DEPARTMENT OF DEFENSE

Office of the Secretary

TRICARE Over-the-Counter Drug Demonstration Project

AGENCY: Office of the Secretary, DoD.

ACTION: Notice of an extension to the TRICARE Over-the-Counter Drug Demonstration Project.

SUMMARY: This notice is to advise interested parties of a 2-year extension of the demonstration project in which the Department of Defense (DoD) evaluates allowing selected over-the-counter (OTC) drugs to be included on the TRICARE uniform formulary. The Department will continue to evaluate the costs/benefits and beneficiary satisfaction of providing OTC drugs under the pharmacy benefits program when the selected OTC drugs are determined to be clinically effective.

DATES: This demonstration project will continue through November 4, 2014.

FOR FURTHER INFORMATION CONTACT: Colonel George Jones, TRICARE Management Activity, Pharmaceutical Operations Directorate, telephone (703) 681-2890.

SUPPLEMENTARY INFORMATION: Section 705 of the John Warner National Defense Authorization Act for 2007 directed the Secretary to conduct a demonstration project under 10 U.S.C. 1092 to allow certain over-the-counter (OTC) medications to be included on the uniform formulary under 10 U.S.C. 1074g. On June 15, 2007, the Department of Defense published a notice in the Federal Register (72 FR 33208-33210) implementing the demonstration project until the implementation of the combined TRICARE mail and retail contract (TPharm) which was on November 4, 2009. In order to more thoroughly evaluate the clinical and cost effectiveness of OTC drugs as well as beneficiary satisfaction with the project, the Department published a notice in the Federal Register (74 FR 66626-66627) on December 16, 2009 that extended the demonstration project through November 4, 2012. The Department has determined that continuation of the demonstration project for an additional 2 years is necessary to provide the Secretary with sufficient information to fully evaluate the project. The demonstration project continues to be authorized by 10 U.S.C. 1092.

Dated: October 31, 2012.
Aaron Siegel,
Alternate OSD Federal Register Liaison Officer, Department of Defense.

[FR Doc. 2012-26888 Filed 11-1-12; 8:45 am]

BILLING CODE 5001-06-P